DEPARTMENT OF ENERGY

Federal Energy Regulatory Commission

Combined Notice of Filings #1

Take notice that the Commission received the following electric corporate filings:

Docket Numbers: EC19-120-000.

Applicants: El Paso Electric Company, Sun Jupiter Holdings LLC.

Description: Joint Application for Authorization Under Section 203 of the Federal Power Act, et al. of El Paso Electric Company, et al.

Filed Date: 8/13/19.

Accession Number: 20190813-5128.

Comments Due: 5 p.m. ET 10/15/19.

Docket Numbers: EC19-121-000.

Applicants: Kendall Green Energy LLC, AIP Project Franklin Bidco, Inc.

Description: Application for Authorization Under Section 203 of the Federal Power Act, et al. of Kendall Green Energy LLC.

Filed Date: 8/14/19.

Accession Number: 20190814-5071.

Comments Due: 5 p.m. ET 9/4/19.

Take notice that the Commission received the following exempt wholesale generator filings:

Docket Numbers: EG19-162-000.

Applicants: Misae Lessee LLC.

Description: Notice of Self-Certification of Exempt Wholesale Generator Status of Misae Lessee LLC.

Filed Date: 8/14/19.

Accession Number: 20190814-5030.

Comments Due: 5 p.m. ET 9/4/19.

Docket Numbers: EG19-163-000.

Applicants: Childress Solar Park, LLC.

Description: Notice of Self-Certification of Exempt Wholesale Generator Status of Childress Solar Park, LLC.

Filed Date: 8/14/19.

Accession Number: 20190814-5031.

Comments Due: 5 p.m. ET 9/4/19.

Docket Numbers: EG19-164-000.

Applicants: Chief Conemaugh Power II, LLC.

Description: Notice of Self-Certification of Exempt Wholesale Generator Status of Chief Conemaugh Power II, LLC.

Filed Date: 8/14/19.

Accession Number: 20190814-5099.

Comments Due: 5 p.m. ET 9/4/19.

Docket Numbers: EG19-165-000.

Applicants: Chief Keystone Power II, LLC.

Description: Notice of Self-Certification of Exempt Wholesale Generator Status of Chief Keystone Power II, LLC.

Filed Date: 8/14/19.

Accession Number: 20190814-5100.

Comments Due: 5 p.m. ET 9/4/19.

Take notice that the Commission received the following electric rate filings:

Docket Numbers: ER19-2425-001.

Applicants: Mitsui & Co. Energy Marketing and Services (USA).

Description: Tariff Amendment: Amendment to Application for Market Based Rate Filing to be effective 9/17/2019.

Filed Date: 8/14/19.

Accession Number: 20190814-5042.

Comments Due: 5 p.m. ET 9/4/19.

Docket Numbers: ER19-2581-001.

Applicants: AEP Texas Inc.

Description: Tariff Amendment: AEPTX-Shakes Solar GIA 3rd Amd & Restated—Amendment to be effective 7/23/2019.

Filed Date: 8/14/19.

Accession Number: 20190814-5058.

Comments Due: 5 p.m. ET 9/4/19.

Docket Numbers: ER19-2595-000.

Applicants: SR Hazlehurst III, LLC.

Description: Baseline eTariff Filing: MBR Application to be effective 9/30/2019.

Filed Date: 8/13/19.

Accession Number: 20190813-5215.

Comments Due: 5 p.m. ET 9/3/19.

Docket Numbers: ER19-2596-000.

Applicants: Public Service Company of Oklahoma.

Description: Notice of Cancellation of Amended Transmission Service Agreement (Rate Schedule No. 233) of American Electric Power Service Corporation, on behalf of Public Service Company of Oklahoma.

Filed Date: 8/13/19.

Accession Number: 20190813-5242.

Comments Due: 5 p.m. ET 9/3/19.

Docket Numbers: ER19-2597-000.

Applicants: Cincinnati Bell Energy LLC.

Description: § 205(d) Rate Filing: Normal filing 2019 to be effective 8/15/2019.

Filed Date: 8/14/19.

Accession Number: 20190814-5062.

Comments Due: 5 p.m. ET 9/4/19.

Docket Numbers: ER19-2598-000.

Applicants: Connecticut Gas & Electric, Inc.

Description: § 205(d) Rate Filing: Normal filing 2019 to be effective 8/15/2019.

Filed Date: 8/14/19.

Accession Number: 20190814-5064.

Comments Due: 5 p.m. ET 9/4/19.

Docket Numbers: ER19-2599-000.

Applicants: Energy Rewards, LLC.

Description: § 205(d) Rate Filing: Normal filing 2019 to be effective 8/15/2019.

Filed Date: 8/14/19.

Accession Number: 20190814-5073.

Comments Due: 5 p.m. ET 9/4/19.

Docket Numbers: ER19-2600-000.

Applicants: Energy Services Providers, Inc.

Description: § 205(d) Rate Filing: Normal filing 2019 to be effective 8/15/2019.

Filed Date: 8/14/19.

Accession Number: 20190814-5077.

Comments Due: 5 p.m. ET 9/4/19.

Docket Numbers: ER19-2601-000.

Applicants: Everyday Energy NJ, LLC.

Description: § 205(d) Rate Filing: Normal filing 2019 to be effective 8/15/2019.

Filed Date: 8/14/19.

Accession Number: 20190814-5078.

Comments Due: 5 p.m. ET 9/4/19.

Docket Numbers: ER19-2602-000.

Applicants: Jersey Central Power & Light Company, PJM Interconnection, L.L.C.

Description: § 205(d) Rate Filing: Jersey Central Power & Light Company submits IA SA No. 5030 to be effective 10/13/2019.

Filed Date: 8/14/19.

Accession Number: 20190814-5079.

Comments Due: 5 p.m. ET 9/4/19.

Docket Numbers: ER19-2603-000.

Applicants: Everyday Energy, LLC.

Description: § 205(d) Rate Filing: Normal filing 2019 to be effective 8/15/2019.

Filed Date: 8/14/19.

Accession Number: 20190814-5080.

Comments Due: 5 p.m. ET 9/4/19.

Docket Numbers: ER19-2604-000.

Applicants: Massachusetts Gas & Electric, Inc.

Description: § 205(d) Rate Filing: Normal filing 2019 to be effective 8/15/2019.

Filed Date: 8/14/19.

Accession Number: 20190814-5081.

Comments Due: 5 p.m. ET 9/4/19.

Docket Numbers: ER19-2605-000.

Applicants: Public Power & Utility of Maryland, LLC.

Description: § 205(d) Rate Filing: Normal filing 2019 to be effective 8/15/2019.

Filed Date: 8/14/19.

Accession Number: 20190814-5083.

Comments Due: 5 p.m. ET 9/4/19.

Docket Numbers: ER19-2606-000.

Applicants: Public Power & Utility of NY, Inc.

Description: § 205(d) Rate Filing: Normal filing 2019 to be effective 8/15/2019.

Filed Date: 8/14/19.

Accession Number: 20190814-5084.

Comments Due: 5 p.m. ET 9/4/19.

Docket Numbers: ER19-2607-000.

Applicants: Public Power (PA), LLC.

Description: § 205(d) Rate Filing: Normal filing 2019 to be effective 8/15/2019.

Filed Date: 8/14/19.

Accession Number: 20190814-5085.

Comments Due: 5 p.m. ET 9/4/19.

Docket Numbers: ER19-2608-000.

Applicants: Public Power, LLC.

Description: § 205(d) Rate Filing: Normal filing 2019 to be effective 8/15/2019.

Filed Date: 8/14/19.

Accession Number: 20190814-5086.

Comments Due: 5 p.m. ET 9/4/19.

Docket Numbers: ER19-2609-000.

Applicants: TriEagle Energy, LP.

Description: § 205(d) Rate Filing: Normal filing 2019 to be effective 8/15/2019.

Filed Date: 8/14/19.

Accession Number: 20190814-5088.

Comments Due: 5 p.m. ET 9/4/19.

Docket Numbers: ER19-2610-000.

Applicants: Viridian Energy NY, LLC.

Description: § 205(d) Rate Filing: Normal filing 2019 to be effective 8/15/2019.

Filed Date: 8/14/19.

Accession Number: 20190814-5089.

Comments Due: 5 p.m. ET 9/4/19.

Docket Numbers: ER19-2611-000.

Applicants: Viridian Energy PA, LLC.

Description: § 205(d) Rate Filing: Normal filing 2019 to be effective 8/15/2019.

Filed Date: 8/14/19.

Accession Number: 20190814-5092.

Comments Due: 5 p.m. ET 9/4/19.

Docket Numbers: ER19-2612-000.

Applicants: Viridian Energy, LLC.

Description: § 205(d) Rate Filing: Normal filing 2019 to be effective 8/15/2019.

Filed Date: 8/14/19.

Accession Number: 20190814-5094.

Comments Due: 5 p.m. ET 9/4/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 14, 2019.
Nathaniel J. Davis, Sr.,
Deputy Secretary.

[FR Doc. 2019-17880 Filed 8-19-19; 8:45 am]

BILLING CODE 6717-01-P